DEPARTMENT OF THE TREASURY

Submission for OMB Review; Comment Request

March 28, 2016.

The Department of the Treasury will submit the following information collection requests to the Office of Management and Budget (OMB) for review and clearance in accordance with the Paperwork Reduction Act of 1995, Public Law 104-13, on or after the date of publication of this notice.

DATES: Comments should be received on or before May 2, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Alcohol and Tobacco Tax and Trade Bureau (TTB)

OMB Number: 1513-0002.

Type of Review: Revision of a currently approved collection.

Title: Personnel Questionnaire—Alcohol and Tobacco Products.

Abstract: The information collected on TTB F 5000.9 enables TTB to determine whether or not an applicant for a Federal alcohol or tobacco permit, notice, or registration, or certain other personnel, such as officers or directors, of the business applied for, meet the minimum qualifications for that permit, notice, or registration. TTB F 5000.9 is required in certain circumstances in which the information is deemed necessary, and includes such information as the individual's residence, business background, financial sources for the business, and criminal record.

Estimated Total Annual Burden Hours: 14,283.

OMB Number: 1513-0009.

Type of Review: Revision of a currently approved collection.

Title: Application to Establish and Operate Wine Premises, and Wine Bond.

Abstract: TTB F 5120.25, Application to Establish and Operate Wine Premises, is the form used to establish the qualifications of an applicant applying to establish and operate wine premises. The applicant certifies his/her intention to produce and/or store a specified amount of wine and take certain precautions to protect it from unauthorized use. TTB F 5120.36, Wine Bond, is the form used by the proprietor and a surety company as a contract to ensure the payment of the wine excise tax.

Estimated Total Annual Burden Hours: 1,775.

Brenda Simms,
Treasury PRA Clearance Officer.

[FR Doc. 2016-07297 Filed 3-30-16; 8:45 am]

BILLING CODE 4810-31-P